DEPARTMENT OF THE INTERIOR

Bureau of Land Management

[CA-930-5420-EU-B173; CACA 44409]

Disclaimer of Interest in Lands; California

AGENCY: Bureau of Land Management, Interior.

ACTION: Notice.

SUMMARY: The Santa Ynez Band of Mission Indians has applied for the United States to issue a recordable disclaimer of interest in certain lands which were held in trust. The interest proposed to be disclaimed is fee title and not a right-of-way filed under the auspices of RS 2477. The cumulative acreage of these lands is 1.34 acres.

DATES: Comments should be received by May 3, 2004.

ADDRESSES: Comments or objections should be sent to: Chief, Branch of Lands Management, 2800 Cottage Way, Rm. W-1834, Sacramento, California 95825.

FOR FURTHER INFORMATION CONTACT: Nancy Alex, BLM California State Office, 2800 Cottage Way, Sacramento, California 95825; 916-978-4674.

SUPPLEMENTARY INFORMATION: The Tribe and the United States agree the following property is not held by the United States in trust for Indians. The lands are outside the surveyed boundary of the Santa Ynez Reservation. Nonetheless, Santa Barbara County records still show it held in trust. The Tribe filed application requesting the United States to issue a recordable disclaimer of the United States' interest pursuant to section 315 of the Federal Land Policy and Management Act of 1976 (43 U.S.C. 1745) for the following described lands:

That parcel delineated by courses 101 to 102 to 103 to 104 to 101B to 101A back to 101, and that parcel delineated by courses 104 to 105 to 106 to 107 to 108 to 104B to 104A back to 104, as shown on the BLM Dependent Resurvey and Survey for the boundaries of the Santa Ynez Indian Reservation, T. 6 N., R. 31 W., San Bernardino Meridian, approved September 14, 1977.

The lands described above were used and occupied by certain Indian families outside the reservation. In 1903, the lands were deeded to the United States in trust for those particular Indians with a reverter. By 1940, the Tribe and the Solicitor for the Department of the Interior found that the lands described above reverted back to the grantor's successors in interest. Although disclaimers were executed at that time, they were never recorded with the County Recorder, causing the impression that the United States still holds the lands in trust. The United States proposes to issue a disclaimer of interest to remove this cloud on title.

For a period of 30 days from the date of publication of this notice, all persons who wish to submit comments, suggestions, or objections in connection with the proposed disclaimer may present their views in writing to the undersigned officer at the above address.

Dated: November 25, 2003.
Howard K. Stark,
Chief, Branch of Lands Management.

[FR Doc. 04-7463 Filed 4-1-04; 8:45 am]

BILLING CODE 4310-40-P